Title 3—

The President

Proclamation 9755 of May 21, 2018

National Maritime Day, 2018

By the President of the United States of America

A Proclamation

On National Maritime Day, we recognize the critical role the United States Merchant Marine plays in bolstering national security and facilitating economic growth. We honor our merchant mariners for their contributions to connecting the States, supporting our military, and cementing ties among our allies.

Long known as the “Fourth Arm of Defense,” the United States Merchant Marine has served with valor and distinction in every American conflict. The important work of the Merchant Marine was never more evident than during World War II, when merchant mariners sailed dangerous seas and fought enemies as they connected our Armed Forces fighting abroad to vital supplies produced by hardworking Americans at home. In the course of their valiant efforts, they endured the loss of more than 730 large vessels, and more than 6,000 merchant mariners died at sea or as prisoners of war.

Today, American mariners facilitate the shipment of hundreds of billions of dollars of goods along maritime trade routes for American businesses and consumers. Merchant mariners are ambassadors of good will, projecting a peaceful United States presence along the sea lanes of the world and into regions of core strategic importance to our Nation. Often risking their lives by sailing into war zones, our merchant mariners continue to support our troops overseas by providing them with needed cargo and logistical support. They also advance humanitarian missions worldwide, including last year's effort to ship tens of thousands of containers of lifesaving supplies to Puerto Rico and the U.S. Virgin Islands after they had been devastated by hurricanes.

The Congress, by a joint resolution approved May 20, 1933, has designated May 22 of each year as “National Maritime Day” to commemorate the first transoceanic voyage by a steamship in 1819 by the S.S. Savannah. By this resolution, the Congress has authorized and requested the President to issue annually a proclamation calling for its appropriate observance.

NOW, THEREFORE, I, DONALD J. TRUMP, President of the United States of America, do hereby proclaim May 22, 2018, as National Maritime Day. I call upon the people of the United States to mark this observance and to display the flag of the United States at their homes and in their communities. I also request that all ships sailing under the American flag dress ship on that day.

IN WITNESS WHEREOF, I have hereunto set my hand this twenty-first day of May, in the year of our Lord two thousand eighteen, and of the Independence of the United States of America the two hundred and forty-second.

[FR Doc. 2018-11513

Filed 5-24-18; 11:15 am]

Billing code 3295-F8-P